DEPARTMENT OF THE TREASURY

Internal Revenue Service

26 CFR Part 1

[REG-105089-99]

RIN 1545-AX38

Guidance Under Section 356 Relating to the Treatment of Nonqualified Preferred Stock and Other Preferred Stock in Certain Exchanges and Distributions; Hearing Cancellation

AGENCY: Internal Revenue Service (IRS), Treasury.

ACTION: Cancellation of notice of public hearing on proposed rulemaking.

SUMMARY: This document provides notice of cancellation of a public hearing on proposed regulations relating to the treatment of nonqualified preferred stock and other preferred stock in certain exchanges and distributions under section 356 of the Internal Revenue Code.

DATES: The public hearing originally scheduled for Wednesday, May 31, 2000, at 10 a.m., is cancelled.

FOR FURTHER INFORMATION CONTACT: LaNita Van Dyke of the Regulations Unit, Assistant Chief Counsel (Corporate), at (202) 622-7180 (not a toll-free number).

SUPPLEMENTARY INFORMATION: A notice of proposed rulemaking and notice of public hearing that appeared in the Federal Register on January 26, 2000, (65 FR 4203), announced that a public hearing was scheduled for May 31, 2000, at 10 a.m., in room 2615, Internal Revenue Building, 1111 Constitution Ave., NW., Washington, DC. The subject of the public hearing is proposed regulations under section 354, 355, 356, and 1036 of the Internal Revenue Code. The deadline for requests to speak and outlines of oral comments expired on May 10, 2000.

The notice of proposed rulemaking and notice of public hearing, instructed those interested in testifying at the public hearing to submit a request to speak and an outline of the topics to be addressed. As of May 15, 2000, no one has requested to speak. Therefore, the public hearing scheduled for May 31, 2000, is cancelled.

Cynthia E. Grigsby,
Chief, Regulations Unit, Assistant Chief Counsel (Corporate).

[FR Doc. 00-12682 Filed 5-18-00; 8:45 am]

BILLING CODE 4830-01-P